DEPARTMENT OF HEALTH AND HUMAN SERVICES

National Institutes of Health

Center for Scientific Review; Amended Notice of Meeting

Notice is hereby given of a change in the meeting of the Center for Scientific Review Special Emphasis Panel, IMM-K81, October 24, 2013, 4:30 p.m. to October 24, 2013, 6:00 p.m., Renaissance Washington DC, Dupont Circle, 1143 New Hampshire Avenue NW., Washington, DC, 20037 which was published in the Federal Register on October 1, 2013, 78 FR Pgs. 60297-60299.

The meeting will be held at the National Institutes of Health, 6701 Rockledge Dr., Bethesda, MD 20892. The meeting will start on November 13, 2013 at 8:00 a.m. and will end on November 14, 2013 at 8:00 p.m. The meeting is closed to the public.

Dated: October 24, 2013.
Carolyn A. Baum,
Program Analyst, Office of Federal Advisory Committee Policy.

[FR Doc. 2013-25558 Filed 10-28-13; 8:45 am]

BILLING CODE 4140-01-P